DEPARTMENT OF LABOR

Mine Safety and Health Administration

[OMB Control No. 1219-0004]

Proposed Extension of Information Collection; Roof Control Plan for Underground Coal Mines

AGENCY: Mine Safety and Health Administration, Labor.

ACTION: Request for public comments.

SUMMARY: The Department of Labor (DOL), as part of its continuing effort to reduce paperwork and respondent burden, conducts a pre-clearance request for comment to provide the general public and Federal agencies with an opportunity to comment on proposed collections of information, in accordance with the Paperwork Reduction Act of 1995. This request helps to ensure that: requested data can be provided in the desired format; reporting burden (time and financial resources) is minimized; collection instruments are clearly understood; and the impact of collection requirements on respondents can be properly assessed. The Mine Safety and Health Administration (MSHA) is soliciting comments on the information collection entitled Roof Control Plan for Underground Coal Mines.

DATES: All comments must be received on or before October 25, 2024.

ADDRESSES: Comments concerning the information collection requirements of this notice may be sent by any of the methods listed below. Please note that late comments received after the deadline will not be considered.

• Federal E-Rulemaking Portal: https://www.regulations.gov. Follow the on-line instructions for submitting comments for docket number MSHA-2024-0012.

• Mail/Hand Delivery: DOL-MSHA, Office of Standards, Regulations, and Variances, 201 12th Street South, 4th Floor West, Arlington, VA 22202-5452. Before visiting MSHA in person, call 202-693-9455 to make an appointment, in keeping with the Department of Labor's COVID-19 policy. Special health precautions may be required.

• MSHA will post all comments as well as any attachments, except for information submitted and marked as confidential, in the docket at https://www.regulations.gov.

FOR FURTHER INFORMATION CONTACT: S Aromie Noe, Director, Office of Standards, Regulations, and Variances, MSHA, at MSHA.information.collections@dol.gov (email); (202) 693-9440 (voice); or (202) 693-9441 (facsimile). These are not toll-free numbers.

SUPPLEMENTARY INFORMATION:

I. Background

A. Legal Authority

Section 103(h) of the Federal Mine Safety and Health Act of 1977, as amended (Mine Act), 30 U.S.C. 813(h), authorizes the Mine Safety and Health Administration (MSHA) to collect information necessary to carry out its duty in protecting the safety and health of miners. Further, section 101(a) of the Mine Act, 30 U.S.C. 811(a), authorizes the Secretary of Labor (Secretary) to develop, promulgate, and revise, as may be appropriate, improved mandatory health or safety standards for the protection of life and prevention of injuries in coal, metal, and nonmetal mines.

Section 302(a) of the Mine Act, 30 U.S.C. 862, requires that a roof control plan and revisions thereof suitable to the roof conditions and mining system of each underground coal mine be first approved by the Secretary before implementation by the operator. The plan must show the type of support and spacing approved by the Secretary, and the plan must be reviewed at least every 6 months by the Secretary.

B. Information Collection

In order to fulfill the statutory mandates to promote miners' health and safety, MSHA requires the collection of information entitled Roof Control Plan for Underground Coal Mines. The information collection is intended to ensure that underground coal mine operators develop and maintain roof control plans approved by MSHA.

1. New Roof Control Plans and Revisions

Under 30 CFR 75.215, the roof control plan for each longwall mining section is required to specify the methods that will be used to maintain a safe travelway out of the section through the tailgate side of the longwall and the procedures that will be followed if a ground failure prevents travel out of the section through the tailgate side of the longwall.

Under 30 CFR 75.220(a)(1), each underground coal mine operator must develop and follow a roof control plan, approved by the District Manager, that is suitable to the prevailing geological conditions and the mining system to be used at the mine. The standard also requires that additional measures be taken to protect persons if unusual hazards are encountered.

Under 30 CFR 75.220(a)(2), the proposed roof control plan and any revisions must be submitted, in writing, to the District Manager. The required elements of the mine map are listed in 30 CFR 75.221(a), including a description and drawings of the sequence of installation and spacing of supports, a description of the methods to be used for the protection of persons from falling material, and a description of the roof and rib support for refuge alternatives.

Under 30 CFR 75.223(a), a mine operator must propose revisions to the roof control plan when conditions indicate that the plan is not suitable for controlling the roof, face, ribs, or coal or rock bursts, or when accident and injury experience at the mine indicates the plan is inadequate. The mine operator is required to review accident and injury experience at each mine at least every six months.

2. Unplanned Roof or Rib Fall and Coal or Rock Burst

Under 30 CFR 75.223(b), underground coal mine operators are required to plot each unplanned roof fall and rib fall and coal or rock burst that occurs in the active workings on a mine map when certain criteria are met.

3. Records

Under 30 CFR 75.220(e), the approved roof control plan and any revisions must be available to the miners and their representatives.

Under 30 CFR 75.223(c), the mine map on which roof falls are plotted must be available at the mine site for inspection by MSHA and miners' representatives.

4. Plan Review and Approval

Under 30 CFR 75.220(b)(1), the mine operator will be notified in writing of the approval or denial of approval of a proposed roof control plan or proposed revision. Under 30 CFR 75.220(b)(2), when MSHA denies the approval of a proposed plan or revision, the deficiencies of the plan or revision and recommended changes are specified and the mine operator will have an opportunity to discuss the deficiencies and changes with the District Manager.

Roof control plans, and revisions to those plans, are evaluated by MSHA specialists in accordance with the criteria set forth in 30 CFR 75.222. Under 30 CFR 75.222(a), the District Manager may require additional measures in plans and may approve roof control plans that do not conform to the applicable criteria, provided that effective control of the roof, face, and ribs can be maintained.

Under 30 CFR 75.223(d), MSHA must review the roof control plan every six months. This review requires MSHA to take into consideration any falls of the roof, face, and ribs and the adequacy of the support systems used at the time.

II. Desired Focus of Comments

MSHA is soliciting comments concerning the proposed information collection related to Roof Control Plan for Underground Coal Mines. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on https://www.regulations.gov. MSHA cautions commenters against providing any information in the submission that should not be publicly disclosed. Full comments, including personal information provided, will be made available on https://www.regulations.gov and https://www.reginfo.gov.

The public may also examine publicly available documents at DOL-MSHA, Office of Standards, Regulations and Variances, 201 12th Street South, 4th Floor West, Arlington, VA 22202-5452. Sign in at the receptionist's desk on the 4th Floor via the West elevator. Before visiting MSHA in person, call 202-693-9455 to make an appointment, in keeping with the Department of Labor's COVID-19 policy. Special health precautions may be required.

Questions about the information collection requirements may be directed to the person listed in the FOR FURTHER INFORMATION section of this notice.

III. Current Actions

This information collection request concerns provisions for Roof Control Plan for Underground Coal Mines. MSHA has updated the data with respect to the number of respondents, responses, time burden, and burden costs supporting this information collection request from the previous information collection request.

Type of Review: Extension, without change, of a currently approved collection.

Agency: Mine Safety and Health Administration.

OMB Number: 1219-0004.

Affected Public: Business or other for-profit.

Number of Annual Respondents: 167.

Frequency: On occasion.

Number of Annual Responses: 1,019.

Annual Time Burden: 2,974 hours.

Annual Other Burden Costs: $3,396.

Comments submitted in response to this notice will be summarized and included in the request for Office of Management and Budget approval of the proposed information collection request; they will become a matter of public record and be available at https://www.reginfo.gov.

Song-ae Aromie Noe,
Certifying Officer, Mine Safety and Health Administration.

[FR Doc. 2024-19016 Filed 8-23-24; 8:45 am]

BILLING CODE 4510-43-P